COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List products to be furnished by nonprofit agencies employing persons who are blind or have other severe disabilities, and to delete services previously furnished by such agencies.

Comments must be received on or before: April 25, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List. Comments on this certification are invited. Commenters should identify the statement(s) underlying the certification on which they are providing additional information.

End of Certification

The following products are proposed for addition to Procurement List for production by the nonprofit agency listed:

Products

Product/NSN: Bakery Mix (Requirement for 100% of Operational Rations Only), 8920-00-926-6016 (Biscuit Mix),

8920-00-935-3262 (Chocolate Brownie Mix),

8920-00-823-7229 (Yellow Cake Mix),

8920-00-168-3296 (Chocolate Cookie Mix),

8920-00-435-4918 (Cornbread Mix),

8920-00-935-3264 (Oatmeal Cookie Mix),

8920-00-175-0429 (Sugar Cookie Mix),

8940-00-131-8761 (Vanilla Pudding Mix).

NPA: Advocacy and Resources Corporation, Cookeville, Tennessee.

Contract Activity: Defense Supply Center Philadelphia, Philadelphia, Pennsylvania.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Commissary Shelf Stocking & Custodial, Fort Carson, Colorado.

NPA: NONE CURRENTLY AUTHORIZED.

Contract Activity: Defense Commissary Agency, Fort Lee, Virginia.

Service Type/Location: Commissary Shelf Stocking & Custodial, Fort Riley, Kansas.

NPA: NONE CURRENTLY AUTHORIZED.

Contract Activity: Defense Commissary Agency, Fort Lee, Virginia.

Service Type/Location: Commissary Shelf Stocking, Custodial & Warehousing,

McConnell Air Force Base, Kansas.

NPA: NONE CURRENTLY AUTHORIZED.

Contract Activity: Defense Commissary Agency, Fort Lee, Virginia.

Service Type/Location: Janitorial/Custodial,

Carl Albert Federal Building and U.S. Courthouse, McAlester, Oklahoma.

NPA: NONE CURRENTLY AUTHORIZED.

Contract Activity: General Services Administration.

Service Type/Location: Janitorial/Custodial.

J. Marvin Jones Federal Building & U.S. Courthouse, Amarillo, Texas.

NPA: NONE CURRENTLY AUTHORIZED.

Contract Activity: GSA, Public Buildings Service.

Service Type/Location: Janitorial/Custodial,

U.S. Army Reserve Center (Midland),

Midland, Texas.

NPA: NONE CURRENTLY AUTHORIZED.

Contract Activity: Department of the Army.

Service Type/Location: Janitorial/Custodial,

U.S. Federal Building and Post Office, Idabel, Oklahoma.

NPA: NONE CURRENTLY AUTHORIZED.

Contract Activity: General Services Administration.

Service Type/Location: Janitorial/Custodial,

U.S. Federal Building, Courthouse and Post Office, Batesville, Arkansas.

NPA: NONE CURRENTLY AUTHORIZED.

Contract Activity: General Services Administration.

Service Type/Location: Janitorial/Custodial,

U.S. Federal Building, Courthouse and Post Office, Pine Bluff, Arkansas.

NPA: NONE CURRENTLY AUTHORIZED.

Contract Activity: General Services Administration.

Service Type/Location: Janitorial/Custodial,

U.S. Federal Building, Courthouse and Post Office, Tyler, Texas.

NPA: NONE CURRENTLY AUTHORIZED.

Contract Activity: General Services Administration.

Service Type/Location: Janitorial/Custodial,

U.S. Federal Building, Gallup, New Mexico.

NPA: NONE CURRENTLY AUTHORIZED.

Contract Activity: GSA, Public Buildings Service.

Service Type/Location: Janitorial/Custodial,

U.S. Federal Building, Russellville, Arkansas.

NPA: NONE CURRENTLY AUTHORIZED.

Contract Activity: General Services Administration.

Service Type/Location: Janitorial/Custodial,

U.S. Post Office, Courthouse and Social Security Administration, Hot Springs, Arkansas.

NPA: NONE CURRENTLY AUTHORIZED.

Contract Activity: GSA, Public Buildings Service.

Service Type/Location: Janitorial/Grounds Maintenance,

U.S. Army Reserve Center, Hot Springs, Arkansas.

NPA: NONE CURRENTLY AUTHORIZED.

Contract Activity: Department of the Army.

Sheryl D. Kennerly,
Director, Information Management.

[FR Doc. 04-6805 Filed 3-25-04; 8:45 am]

BILLING CODE 6353-01-P